DEPARTMENT OF AGRICULTURE

Rural Utilities Service

Public Television Station Digital Transition Grant Program

AGENCY: Rural Utilities Service, USDA.

ACTION: Notice.

SUMMARY: The Rural Utilities Service (RUS) is announcing the process by which Fiscal Year 2004 funding of its pilot grant program to finance the conversion of television services from analog to digital broadcasting for public television stations serving rural areas will be made available. For Fiscal Year 2004, $14 million in grants will be made available for the continued funding of the national competition announced on July 18, 2003, to enable public television stations that serve substantial rural populations to continue serving their coverage areas.

DATES: Successful grant applicants will be notified no later than March 31, 2004.

FOR FURTHER INFORMATION CONTACT: Roberta D. Purcell, Assistant Administrator, Telecommunications Program, Rural Utilities Service, U.S. Department of Agriculture, 1400 Independence Avenue, SW., STOP 1590, Room 5151, Washington, DC 20250-1590. Telephone number (202) 720-9554, Facsimile (202) 720-0810.

SUPPLEMENTARY INFORMATION: On July 18, 2003, RUS published a Notice of Funds Availability (NOFA) in the Federal Register at 68 FR 42680 announcing its “public television station digital transition” grant program to finance the conversion of television services from analog to digital broadcasting for public television stations serving rural areas. Fifteen million dollars in grant authority was made available to finance digital conversions.

As part of the nation's evolution to digital television, the Federal Communications Commission (FCC) has ordered all television broadcasters to initiate the broadcast of a digital television signal by May 1, 2003, and to cease analog television broadcasts on December 31, 2006. About half of the nation's 357 public television stations did not meet the deadline to initiate digital broadcasting, and have received extensions to as late as May 1, 2004, to do so.

The Agriculture, Rural Development, Food and Drug Administration, and Related Agencies Appropriations Bill, 2003, authorized $51,941,000 for the Distance Learning and Telemedicine program. The Committee Recommendations specify that of the funds provided for Distance Learning and Telemedicine, $15,000,000 should be made available in grants for public broadcasting systems to meet the FCC's mandate.

Public television stations rely largely on community financial support to operate. In many rural areas the cost of the transition to digital broadcasting may exceed community resources. Since rural communities depend on public television stations for services ranging from educational course content in their schools to local news, weather, and agricultural reports, any disruption of public television broadcasting would be detrimental.

In response to its NOFA, RUS received 46 applications totaling more than $45 million in funding requests. As part of a national competition, RUS reviewed the applications for applicant and project eligibility and scored the applications according to the rurality of the applicant's digital television coverage area, the average per capita income of the applicant's digital television cover area, and critical need. On February 20, 2004, Secretary of Agriculture, Ann Veneman, announced the 16 highest scoring grants totaling $15,000,000. This announcement fully utilized RUS' 2003 appropriation.

On January 23, 2004, the Consolidated Appropriations Act of 2004 was enacted which provided $39 million for grants for telemedicine and distance learning services in rural areas provided that $14 million is made available to convert analog to digital operation those noncommercial educational television broadcast stations that serve rural areas and are qualified for Community Service Grants by the Corporation for Public Broadcasting under section 396(k) of the Communications Act of 1934, including associated translators, repeaters, and studio-to-transmitter links. Due to the overwhelming response to the July 18, 2003, NOFA, RUS has eligible applications on hand totaling more than the $14 million appropriation received for Fiscal Year 2004. To eliminate the need for fully eligible applicants to resubmit applications for Fiscal Year 2004, RUS will utilize its 2004 appropriation by funding eligible projects submitted in accordance with the July 18, 2003, NOFA. Announcement of the 2004 appropriation grant awards will be made no later than March 31, 2004.

Dated: March 8, 2004.
Hilda Gay Legg,
Administrator, Rural Utilities Service.

[FR Doc. 04-5496 Filed 3-10-04; 8:45 am]

BILLING CODE 3410-15-P